ENVIRONMENTAL PROTECTION AGENCY

[FRL-10241-01-OMS]

Good Neighbor Environmental Board

AGENCY: Environmental Protection Agency (EPA).

ACTION: Notice of meeting.

SUMMARY: Under the Federal Advisory Committee Act, the Environmental Protection Agency (EPA) gives notice of a public meeting of the Good Neighbor Environmental Board (GNEB or Board). The purpose of this meeting is to discuss and approve the integrated text of the GNEB's advice letter to the President and Congress, focusing on water and wastewater infrastructure issues and challenges along the U.S.-Mexico border region.

DATES: November 7, 2022, from 2:00 p.m.-6:00 p.m. (EST). A copy of the agenda will be posted at www.epa.gov/faca/gneb.

The meeting will be conducted virtually and is open to the public with limited access available on a first-come, first-served basis. Members of the public wishing to participate in the video/teleconference, should contact Eugene Green at green.eugene@epa.gov by October 31st. Requests to make oral comments or submit written public comments to the Board, should also be directed to Eugene Green at least five business days prior to the video/teleconference. Requests for accessibility and/or accommodations for individuals with disabilities should be directed to Eugene Green at the email address or phone number listed above. To ensure adequate time for processing, please make requests for accommodations at least 10 days prior to the video/teleconference.

SUPPLEMENTARY INFORMATION: The GNEB is an independent federal advisory committee. Its mission is to advise the President and Congress of the United States on good neighbor practices along the U.S. border with Mexico. Its recommendations are focused on environmental infrastructure needs within the U.S. states contiguous to Mexico. The Board is a federal advisory committee chartered under the Federal Advisory Committee Act, Public Law 92-463.

FOR FURTHER INFORMATION CONTACT: Eugene Green in the Federal Advisory Committee Division in the Office of Mission Support (1601M), Environmental Protection Agency, 1200 Pennsylvania Avenue NW, Washington, DC 20460; telephone number: (202) 564-2432; email address: green.eugene@epa.gov.

Date: September 29, 2022.
Eugene Green,
Program Analyst.

[FR Doc. 2022-21908 Filed 10-6-22; 8:45 am]

BILLING CODE 6560-50-P